DEPARTMENT OF EDUCATION

[CFDA 84.060A]

Office of Elementary and Secondary Education, Office of Indian Education Formula Grants to Local Educational Agencies; Notice Inviting Applications for New Awards for Fiscal Year (FY) 2002, including Applications for Integration of Services Projects Under Elementary and Secondary Education Act (ESEA) Section 7116

Purpose of Program: The Indian Education Formula Grants program provides grants to support local educational agencies (LEAs) in their efforts to reform elementary and secondary schools programs that serve Indian students. The programs funded must be based on the same challenging State academic content and student academic achievement standards applied to all students, and are designed to assist Indian students in meeting those standards. Under ESEA section 7116, Integration of Services, the Indian Education Formula Grant program also authorizes the consolidation of funds for Federal programs exclusively serving Indian children, or the funds reserved under Federal programs to exclusively service Indian children under a statutory or administrative formula, for the purposes of providing education and related services that would be used to serve Indian students. Instructions for an Integration of Services project are included in the application package.

Eligible Applicants: LEAs and certain schools funded by the Bureau of Indian Affairs, and Indian tribes under certain conditions, as prescribed by statute in ESEA section 7112(b).

Deadline for Transmittal of Applications: July 8, 2002.

Deadline for Intergovernmental Review: September 6, 2002.

Applications Available: June 5, 2002.

Estimated Available Funds: The appropriation for this program for fiscal year 2002 is $97,133,000, which should be sufficient to fund all eligible applicants.

Estimated Range of Awards: $3,000 to $2,400,000.

Estimated Average Size of Awards: $76,183.

Estimated Number of Awards: 1,275.

Note: The Department is not bound by any estimates in this notice.

Project Period: Up to 60 months.

Budget Requirement: All projects with budgets of $115,000 or more must plan and budget for one person to attend a two day Project Directors' meeting to be held in Washington, DC in mid-September 2002. Other projects not meeting the level of funding may attend at their discretion.

Applicable Regulations: The Education Department General Administrative Regulations (EDGAR) in 34 CFR Parts 75, 77, 79, 80, 81, 82, 85, 86, 97, 98, and 99.

Note: Applications not meeting the deadline will not be considered for funding in the initial allocation of awards. However, if funds become available after the initial allocation of funds, applications not meeting the deadline may be considered for funding if the Secretary determines under ESEA section 7118(d) that reallocation of those funds to late applicants would best assist in advancing the purposes of the program, may be less that the applicant would have received had it's application been submitted on time.

For Applications or Information Contact: Cathie Martin, Office of Indian Education, U.S. Department of Education, 400 Maryland Avenue, SW, Room 3W115, Washington, DC 20202-6335. Telephone: (202) 260-3774. Individuals who use a telecommunications device for the deaf (TDD) may call the Federal Information Relay Service (FIRS) at 1-800-877-8339.

Individuals with disabilities may obtain this document in an alternative format (e.g., Braille, large print, audiotape, or computer diskette) on request of the person listed in the preceding paragraph.

Individuals with disabilities may obtain a copy of the application package in an alternative format, also, by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using the PDF, call the U.S. Government Printing Office (GPO), toll free, at 1-888-293-6498; or in the Washington, DC, area at (202) 512-1530.

You may also view this document at the following site: http://www.ed.gov/offices/OESE/oie/index.html

Note: The official version of this document published in the Federal Register. Free Internet access to the official edition of the Federal Register and the Code of Federal Regulations is available on GPO Access at: http://www.access.gpo.gov/nara/index.html

Program Authority: 20 U.S.C. 7421.

Dated: June 3, 2002.
Susan Neuman,
Assistant Secretary for Elementary and Secondary Education.

[FR Doc. 02-14279 Filed 6-6-02; 8:45 am]

BILLING CODE 4000-01-M